DEPARTMENT OF LABOR

Employment and Training Administration

[TA-W-53,751]

United States Postal Service, Remote Encoding Center, Cohoes, New York; Notice of Termination of Investigation

Pursuant to section 221 of the Trade Act of 1974, as amended, an investigation was initiated on November 23, 2003, in response to a petition filed on behalf of workers at United States Postal Service, Remote Encoding Center, Cohoes, New York.

The petitioning worker group is included in a petition filed on November 17, 2003 (TA-W-53,711), that is the subject of an ongoing investigation. Consequently, further investigation in this case would serve no purpose, and the investigation has been terminated.

Signed in Washington, DC, this 12th day of December, 2003.
Linda G. Poole,
Certifying Officer, Division of Trade Adjustment Assistance.

[FR Doc. 04-292 Filed 1-6-04; 8:45 am]

BILLING CODE 4510-30-P